DEPARTMENT OF HOMELAND SECURITY

Coast Guard

[Docket No. USCG-2016-0640]

Eighth Coast Guard District; Interim Outer Continental Shelf Risk-Based Resource Allocation Methodology

AGENCY: Coast Guard, DHS.

ACTION: Notice of availability and request for comments.

SUMMARY: The Coast Guard announces the availability of an interim risk based resource allocation methodology for inspections of certain Outer Continental Shelf (OCS) units in the Eighth Coast Guard District (D8) area of responsibility (AOR). This interim methodology will be implemented for a five-month trial period beginning August 1, 2016. After the trial period, the methodology will be finalized within D8 and submitted to Coast Guard Headquarters (CG-CVC) for consideration at the national level.

DATES: Comments and related material must be received by the Coast Guard on or before September 6, 2016.

ADDRESSES: You may submit comments identified by docket number USCG-2016-0640 or view documents mentioned in this notice as being available in the docket using the Federal eRulemaking Portal at http://www.regulations.gov. See the “Public Participation and Request for Comments” portion of the SUPPLEMENTARY INFORMATION section for further instructions on submitting comments.

FOR FURTHER INFORMATION CONTACT: For information about this document call or email Steve Sutton, Coast Guard; telephone 202-671-2151, email steve.sutton@uscg.mil.

SUPPLEMENTARY INFORMATION:

Discussion

This interim risk based resource allocation methodology is intended to improve implementation of the requirements contained in 33 CFR 140.101(c), 143.120(c), and 143.210(a) by employing interagency consultation and by establishing increased focus on the industrial mission and regulatory compliance and casualty data. It builds upon the risk based matrix created for foreign Mobile Offshore Drilling Units (MODU), which was published in the Federal Register (76 FR 39885) by the Coast Guard in 2011 by applying similar principles to other OCS units and adding consultation with the Bureau of Safety and Environmental Enforcement (BSEE). This methodology will reallocate Coast Guard inspection resources from lower risk, fixed interval activities to higher risk activities prior to commencing an industrial mission. The Coast Guard will periodically evaluate MODUs and OCS facilities that either perform drilling or well-workover or are due for a Coast Guard regulatory inspection to assign an inspection priority and scope using risk matrices. For example, under this methodology Coast Guard inspection resources previously used to conduct an annual Certificate of Compliance inspection of a lower risk stacked MODU may be reallocated to conduct a higher risk inspection of any MODU or OCS facility with a drilling rig prior to commencement of drilling.

Outreach to the Offshore Operator's Committee

On June 8, 2016, the Coast Guard conducted outreach to the offshore Operators' Committee at its annual general meeting in Houston, TX. The presentation, presentation script, and transcript of questions and answers from this outreach are available on the docket where indicated under ADDRESSES.

Public Participation and Request for Comments

We encourage you to submit comments (or related material) on the interim risk based resource allocation methodology for inspection of OCS units in the D8 AOR. We will consider all submissions and may adjust our action based on your comments, although we do not anticipate a written response to comments. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice of availability, and all public comments, are in our online docket at http://www.regulations.gov and can be viewed by following that Web site's instructions. Additionally, if you go to the online docket and sign up for email alerts, you will be notified when comments are posted to the docket.

We accept anonymous comments. All comments received will be posted without change to http://www.regulations.gov and will include any personal information you have provided. For more about privacy and the docket, you may review a Privacy Act notice regarding the Federal Docket Management System in the March 24, 2005, issue of the Federal Register (70 FR 15086).

This notice is issued under authority of 5 U.S.C. 552(a).

Dated: August 1, 2016.
D.R. Callahan,
Rear Admiral, U.S. Coast Guard, Commander, Eighth Coast Guard District.

[FR Doc. 2016-18590 Filed 8-4-16; 8:45 am]

BILLING CODE 9110-04-P